NATIONAL SCIENCE FOUNDATION

Advisory Committee for Environmental Research and Education (#9487); Notice of Meeting

In accordance with the Federal Advisory Committee Act (Pub. L. 92-463, as amended), the National Science Foundation announces the following meeting:

Name: Advisory Committee for Environmental Research and Education (9487).

Dates: October 22, 2003, 8:00 a.m.-4:30 p.m. and October 23, 2003, 9:00 a.m.-2:30 p.m.

Place: National Center for Ecological Analysis and Synthesis, 735 State Street, Suite 300, Santa Barbara, CA.

Type of Meeting: Open.

Contact Person: Dr. Margaret Cavanaugh, Office of the Director, National Director Foundation, Suite 1205, 4201 Wilson Blvd, Arlington, Virginia 22230. Phone 703-292-8002.

Minutes: May be obtained from the contact person listed above.

Purpose of Meeting: To provide advice, recommendations, and oversight concerning support for environmental research and education.

Agenda:

October 22 Update on recent NSF environmental activities and programs Discussion of potential ACERE workshops and occasional papers Planning for COV on Biocomplexity in the Environment Program Panel presentations and discussion of “Synthesis: Challenges of Interdisciplinary Research and Education.”

October 23 Presentation on informatics Committee organization AC-ERE Task Group Meetings and Reports

Dated: September 17, 2003.
Susanne Bolton,
Committee Management Officer.

[FR Doc. 03-24106 Filed 9-18-03; 12:01 pm]

BILLING CODE 7555-01-M